DEPARTMENT OF COMMERCE

Foreign-Trade Zones Board

[Docket 27-2010]

Foreign-Trade Zone 177—Mount Vernon/Evansville, IN; Application for Reorganization Under Alternative Site Framework

An application has been submitted to the Foreign-Trade Zones (FTZ) Board (the Board) by the Ports of Indiana, grantee of Foreign-Trade Zone 177, requesting authority to reorganize the zone under the alternative site framework (ASF) adopted by the Board (74 FR 1170, 1/12/09; correction 74 FR 3987, 1/22/09). The ASF is an option for grantees for the establishment or reorganization of general-purpose zones and can permit significantly greater flexibility in the designation of new “usage-driven” FTZ sites for operators/users located within a grantee's “service area” in the context of the Board's standard 2,000-acre activation limit for a general-purpose zone project. The application was submitted pursuant to the Foreign-Trade Zones Act, as amended (19 U.S.C. 81a-81u) and the regulations of the Board (15 CFR part 400). It was formally filed on April 22, 2010.

FTZ 177 was approved by the Board on March 12, 1991 (Board Order 513, 56 F.R. 12155; March 22, 1991) and expanded on July 2, 1993 (Board Order 648, 58 F.R. 37908; July 14, 1993). The general-purpose zone currently consists of the following sites: Site 1: (40 acres)—within the Southwind Maritime Centre, located at 2751 Bluff Road, Mount Vernon (Posey County); Site 2: (30,000 sq. ft.)—Central Warehouse, Inc., located at 301 East Indiana Street, Evansville (Vanderburgh County); Site 3: (40,000 sq. ft.) Morton Avenue Warehouse, Inc., located at 2504 Lynch Road, Evansville (Vanderburgh County); and, Site 4: (78 acres) Evansville Regional Airport, located at 7801 Bussing Drive, Evansville (Vanderburgh County), Indiana.

The grantee's proposed service area under the ASF would be Vanderburgh, Dubois, Pike, Gibson, Knox, Daviess, Spencer, Warrick and Posey Counties, Indiana, as described in the application. If approved, the grantee would be able to serve sites throughout the service area based on companies' needs for FTZ designation. The proposed service area is within and adjacent to the Owensboro-Evansville Customs and Border Protection port of entry.

The applicant is requesting authority to reorganize its existing zone project to include all of the existing sites as “magnet” sites. The ASF allows for the possible exemption of one magnet site from the “sunset” time limits that generally apply to sites under the ASF, and the applicant proposes that Site 1 be so exempted. No usage-driven sites are being requested at this time. Because the ASF only pertains to establishing or reorganizing a general-purpose zone, the application would have no impact on FTZ 177's authorized subzones.

In accordance with the Board's regulations, Claudia Hausler of the FTZ Staff is designated examiner to evaluate and analyze the facts and information presented in the application and case record and to report findings and recommendations to the Board.

Public comment is invited from interested parties. Submissions (original and 3 copies) shall be addressed to the Board's Executive Secretary at the address below. The closing period for their receipt is July 6, 2010. Rebuttal comments in response to material submitted during the foregoing period may be submitted during the subsequent 15-day period to July 19, 2010.

A copy of the application will be available for public inspection at the Office of the Executive Secretary, Foreign-Trade Zones Board, Room 2111, U.S. Department of Commerce, 1401 Constitution Avenue, NW., Washington, DC 20230-0002, and in the “Reading Room” section of the Board's Web site, which is accessible via http://www.trade.gov/ftz. For further information, contact Claudia Hausler at Claudia.Hausler@trade.gov or (202)482-1379.

Dated: April 23, 2010.
Andrew McGilvray,
Executive Secretary.

[FR Doc. 2010-10615 Filed 5-4-10; 8:45 am]

BILLING CODE P